DEPARTMENT OF THE INTERIOR

Bureau of Reclamation

[RR83550000, 145R5065C6, RX.59389832.1009676]

Quarterly Status Report of Water Service, Repayment, and Other Water-Related Contract Actions

AGENCY: Bureau of Reclamation, Interior.

ACTION: Notice.

SUMMARY: Notice is hereby given of contractual actions that have been proposed to the Bureau of Reclamation (Reclamation) and are new, discontinued, or completed since the last publication of this notice. This notice is one of a variety of means used to inform the public about proposed contractual actions for capital recovery and management of project resources and facilities consistent with section 9(f) of the Reclamation Project Act of 1939. Additional announcements of individual contract actions may be published in the Federal Register and in newspapers of general circulation in the areas determined by Reclamation to be affected by the proposed action.

ADDRESSES: The identity of the approving officer and other information pertaining to a specific contract proposal may be obtained by calling or writing the appropriate regional office at the address and telephone number given for each region in the SUPPLEMENTARY INFORMATION section.

FOR FURTHER INFORMATION CONTACT: Michelle Kelly, Reclamation Law Administration Division, Bureau of Reclamation, P.O. Box 25007, Denver, Colorado 80225-0007; telephone 303-445-2888.

SUPPLEMENTARY INFORMATION: Consistent with section 9(f) of the Reclamation Project Act of 1939, and the rules and regulations published in 52 FR 11954, April 13, 1987 (43 CFR 426.22), Reclamation will publish notice of proposed or amendatory contract actions for any contract for the delivery of project water for authorized uses in newspapers of general circulation in the affected area at least 60 days prior to contract execution. Announcements may be in the form of news releases, legal notices, official letters, memorandums, or other forms of written material. Meetings, workshops, and/or hearings may also be used, as appropriate, to provide local publicity. The public participation procedures do not apply to proposed contracts for the sale of surplus or interim irrigation water for a term of 1 year or less. Either of the contracting parties may invite the public to observe contract proceedings. All public participation procedures will be coordinated with those involved in complying with the National Environmental Policy Act. Pursuant to the “Final Revised Public Participation Procedures” for water resource-related contract negotiations, published in 47 FR 7763, February 22, 1982, a tabulation is provided of all proposed contractual actions in each of the five Reclamation regions. When contract negotiations are completed, and prior to execution, each proposed contract form must be approved by the Secretary of the Interior, or pursuant to delegated or redelegated authority, the Commissioner of Reclamation or one of the regional directors. In some instances, congressional review and approval of a report, water rate, or other terms and conditions of the contract may be involved.

Public participation in and receipt of comments on contract proposals will be facilitated by adherence to the following procedures:

1. Only persons authorized to act on behalf of the contracting entities may negotiate the terms and conditions of a specific contract proposal.

2. Advance notice of meetings or hearings will be furnished to those parties that have made a timely written request for such notice to the appropriate regional or project office of Reclamation.

3. Written correspondence regarding proposed contracts may be made available to the general public pursuant to the terms and procedures of the Freedom of Information Act, as amended.

4. Written comments on a proposed contract or contract action must be submitted to the appropriate regional officials at the locations and within the time limits set forth in the advance public notices.

5. All written comments received and testimony presented at any public hearings will be reviewed and summarized by the appropriate regional office for use by the contract approving authority.

6. Copies of specific proposed contracts may be obtained from the appropriate regional director or his or her designated public contact as they become available for review and comment.

7. In the event modifications are made in the form of a proposed contract, the appropriate regional director shall determine whether republication of the notice and/or extension of the comment period is necessary.

Factors considered in making such a determination shall include, but are not limited to, (i) the significance of the modification, and (ii) the degree of public interest which has been expressed over the course of the negotiations. At a minimum, the regional director will furnish revised contracts to all parties who requested the contract in response to the initial public notice.

Definitions of Abbreviations Used in the Reports

ARRA American Recovery and Reinvestment Act of 2009

BCP Boulder Canyon Project

Reclamation Bureau of Reclamation

CAP Central Arizona Project

CUP Central Utah Project

CVP Central Valley Project

C-BT Colorado-Big Thompson Project

CRSP Colorado River Storage Project

FR Federal Register

IDD Irrigation and Drainage District

ID Irrigation District

LCWSP Lower Colorado Water Supply Project

M&I Municipal and Industrial

NMISC New Mexico Interstate Stream Commission

O&M Operation and Maintenance

OM&R Operation, maintenance, and replacement

P-SMBP Pick-Sloan Missouri Basin Program

PPR Present Perfected Right

RRA Reclamation Reform Act of 1982

SOD Safety of Dams

SRPA Small Reclamation Projects Act of 1956

USACE U.S. Army Corps of Engineers

WD Water District

Pacific Northwest Region: Bureau of Reclamation, 1150 North Curtis Road, Suite 100, Boise, Idaho 83706-1234, telephone 208-378-5344.

Completed contract actions:

5. Queener Irrigation Improvement District, Willamette Basin Project, Oregon: Renewal of long-term water service contract to provide up to 2,150 acre-feet of stored water from the Willamette Basin Project (a USACE project) for the purpose of irrigation within the District's service area. Contract executed May 14, 2014.

8. Cowiche Creek Water Users Association and Yakima-Tieton ID, Yakima Project, Washington: Warren Act contract to allow the use of excess capacity in Yakima Project facilities to convey up to 1,583.4 acre-feet of nonproject water for the irrigation of approximately 396 acres of nonproject land. Contract executed April 2, 2014.

Mid-Pacific Region: Bureau of Reclamation, 2800 Cottage Way, Sacramento, California 95825-1898, telephone 916-978-5250.

New contract actions:

53. Del Puerto WD, CVP, California: Long-term Warren Act contract, not to exceed 40 years, for storage and conveyance of up to 60,000 acre-feet of recycled water from the cities of Turlock and Modesto. This nonproject water will be stored in the San Luis Reservoir and conveyed through the Delta-Mendota Canal to agricultural lands and wildlife refuges.

Modified contract actions:

10. Warren Act Contracts, CVP, California: Execution of long-term Warren Act contracts (up to 40 years) with various entities for conveyance of nonproject water in the CVP.

38. Irrigation water districts, individual irrigators, M&I and miscellaneous water users; California, Nevada, and Oregon: Temporary Warren Act contracts for terms up to 5 years providing for use of excess capacity in CVP facilities for annual quantities exceeding 10,000 acre-feet.

Completed contract action:

13. Byron-Bethany ID, CVP, California: Long-term operational contract for conveyance of nonproject water and exchange of project water using Delta Division facilities of the CVP. Contract executed April 24, 2014.

Lower Colorado Region: Bureau of Reclamation, P.O. Box 61470 (Nevada Highway and Park Street), Boulder City, Nevada 89006-1470, telephone 702-293-8192.

New contract actions:

24. Cibola Valley Irrigation and Drainage District, BCP, Arizona: Approve a partial assignment of 240 acre-feet per year from the District's Colorado River fourth-priority entitlement to GSC Farm, LLC, and execute the necessary amendments to the District's and GSC's contracts.

25. H2O Water Company, Inc. and the Town of Queen Creek, CAP, Arizona: Execute a proposed assignment to the Town of Queen Creek of the H2O Water Company's 147 acre-foot annual CAP water entitlement.

Completed contract actions:

12. Fort McDowell Yavapai Nation and the Town of Gilbert, CAP, Arizona: Execute Amendment No. 3 to a CAP water lease to extend the term of the lease from January 1, 2014 to December 31, 2014, and increase the quantity leased from 13,683 acre-feet to 13,933 acre-feet. The lease is for Fort McDowell Yavapai Nation's CAP water to be leased to the Town of Gilbert. Contract executed December 31, 2013.

14. Arizona Recreational Facilities, LLC, BCP, Arizona: Execute a proposed assignment of a Colorado River water delivery contract and transfer of the entitlement in the amount of 2,673.3 acre-feet per year from Arizona Recreation Facilities to GSC Farm, LLC. Contract executed December 23, 2013.

16. San Carlos Apache Tribe and Pascua Yaqui Tribe, CAP, Arizona: Execute a CAP water lease among the United States, the San Carlos Apache Tribe, and the Pascua Yaqui Tribe in order for the San Carlos Apache Tribe to lease 2,000 acre-feet of its CAP water to the Pacua Yaqui Tribe during calendar year 2014 under the terms and conditions of the lease. Contract executed December 26, 2013.

22. Maurice L. McAlister, BCP, Arizona: Approve an assignment of the contract for 40 acre-feet of Colorado River water per year from Mr. McAlister to McAlister Family Trust. Contract executed May 7, 2014.

Upper Colorado Region: Bureau of Reclamation, 125 South State Street, Room 6107, Salt Lake City, Utah 84138-1102, telephone 801-524-3864.

The Upper Colorado Region has no updates to report for this quarter.

Great Plains Region: Bureau of Reclamation, P.O. Box 36900, Federal Building, 316 North 26th Street, Billings, Montana 59101, telephone 406-247-7752.

Discontinued contract actions:

28. Oil and Gas Industry Contractors; P-SMBP; North Dakota, South Dakota, Montana and Wyoming: Consideration of a form of contract for water service from P-SMBP reservoirs for industrial purposes.

39. Ruedi Reservoir, Fryingpan-Arkansas Project, Colorado: Amend existing contract place of use for some Round II contracts.

53. John Vandenacre; Canyon Ferry Unit, P-SMBP; Montana: Renewal of a long-term water service contract.

Completed contract action:

42. Republican River Basin, P-SMBP, Kansas/Nebraska: Consideration of a short-term contract(s) with the Kansas Bostwick ID for use of Reclamation facilities. Contract executed May 8, 2014.

45. Town of Dillon; C-BT, Colorado: Consideration of a new long-term water service contract for municipal/domestic use out of Green Mountain Reservoir. Contract executed May 8, 2014.

47. Summit County, C-BT, Colorado: Consideration of an amendment to Contract No. 139E6C0121 to change the source of water associated with the Alternative Source Contract, Green Mountain Reservoir. Contract executed April 25, 2014.

50. Frenchman Valley, H&RW, and Kansas Bostwick IDs; Frenchman-Cambridge and Bostwick Divisions, P-SMBP; Nebraska: Consideration of a temporary assignment of water from Frenchman Valley ID and H&RW ID to Kansas-Bostwick ID. Contract executed May 7, 2014.

Dated: June 27, 2014.
Roseann Gonzales,
Director, Policy and Administration.

[FR Doc. 2014-19001 Filed 8-11-14; 8:45 am]

BILLING CODE 4310-MN-P